Title 3—

The President

Proclamation 8188 of October 4, 2007

Fire Prevention Week, 2007

By the President of the United States of America

A Proclamation

During Fire Prevention Week, we reaffirm our commitment to raising awareness about fire safety and prevention, and we salute our country's firefighters who perform heroic acts to keep their fellow citizens safe.

Fires injure or kill thousands of people each year. Americans can help reduce the devastating effects of fires with careful planning and by installing smoke alarms and fire extinguishers in their homes and workplaces. This year's theme, “Practice Your Escape Plan,” highlights the importance of creating a fire escape plan and knowing the routes to quickly exit a burning building. By taking these special precautions, lives can be saved.

America's firefighters demonstrate the true meaning of heroism by taking great risks to safeguard our communities. During Fire Prevention Week, we honor our selfless firefighters and underscore the importance of fire safety. We also pay special tribute to those who have fallen in the line of duty. Our country is grateful for their service and sacrifice, and we pray for God's comfort and strength for their loved ones.

NOW, THEREFORE, I, GEORGE W. BUSH, President of the United States of America, by virtue of the authority vested in me by the Constitution and laws of the United States, do hereby proclaim October 7 through October 13, 2007, as Fire Prevention Week. On Sunday, October 7, 2007, in accordance with Public Law 107-51, the flag of the United States will be flown at half staff on all Federal office buildings in honor of the National Fallen Firefighters Memorial Service. I call on all Americans to participate in this observance through appropriate programs and activities and by renewing their efforts to prevent fires and their tragic consequences.

IN WITNESS WHEREOF, I have hereunto set my hand this fourth day of October, in the year of our Lord two thousand seven, and of the Independence of the United States of America the two hundred and thirty-second.

[FR Doc. 07-5020

Filed 10-9-07; 8:45 am]

Billing code 3195-01-P